DEPARTMENT OF HEALTH AND HUMAN SERVICES

National Institutes of Health

National Library of Medicine; Notice of Closed Meetings

Pursuant to section 10(d) of the Federal Advisory Committee Act, as amended, notice is hereby given of the meetings.

The meeting will be closed to the public in accordance with the provisions set forth in sections 552b(c)(4) and 552b(c)(6), Title 5 U.S.C., as amended. The grant applications and the discussions could disclose confidential trade secrets or commercial property such as patentable materials, and personal information concerning individuals associated with the grant applications, the disclosure of which would constitute a clearly unwarranted invasion of personal privacy.

Name of Committee: Biomedical Informatics, Library and Data Sciences Review Committee.

Date: March 8-9, 2018.

Time: March 8, 2018, 8:00 a.m. to 6:00 p.m.

Agenda: To review and evaluate grant applications.

Place: Bethesda Hyatt, 1 Bethesda Metro Center, Bethesda, MD 20814.

Time: March 9, 2018, 8:00 a.m. to 6:00 p.m.

Agenda: To review and evaluate grant applications.

Contact Person: Joseph Rudolph, Ph.D., Acting Scientific Review Officer, NLM, Chief and Scientific Review Officer, CSR, Center for Scientific Review, NIH, 6701 Rockledge Drive, Room 5216, Bethesda, MD 20817, 301-408-9098, josephru@mail.nih.gov.

(Catalogue of Federal Domestic Assistance Program No. 93.879, Medical Library Assistance, National Institutes of Health, HHS)

Dated: December 7, 2017.
Michelle Trout,
Program Analyst, Office of Federal Advisory Committee Policy.

[FR Doc. 2017-26802 Filed 12-12-17; 8:45 am]

BILLING CODE 4140-01-P